FEDERAL COMMUNICATIONS COMMISSION

Radio Broadcasting Services; AM or FM Proposals To Change the Community of License

Correction

In notice document 2011-2764 appearing on pages 6788-6789 in the issue of Tuesday, February 8, 2011, make the following correction:

On page 6788, in the third column, in the DATES section, in the second and third lines, “[insert date 60 days after FR publication date]” should read “April 11, 2011”.

[FR Doc. C1-2011-2764 Filed 2-10-11; 8:45 am]

BILLING CODE 1505-01-D